DEPARTMENT OF THE INTERIOR

Bureau of Land Management

[WO-250-1220-PC-24 1A; OMB Control Number 1004-0165]

Information Collection Submitted to the Office of Management and Budget Under the Paperwork Reduction Act

The Bureau of Land Management (BLM) has submitted a request to extend the current approved collection to the Office of Management and Budget (OMB) under the provisions of the Paperwork Reduction Act (44 U.S.C. 3501 et seq.). On April 21, 2005, the BLM published a notice in the Federal Register (70 FR 20766) requesting comment on this information collection. The comment period ended on June 20, 2005. The BLM did not receive any comments. You may obtain copies of the collection of information and related forms and explanatory material by contacting the BLM Information Collection Clearance Officer at the telephone number listed below.

The OMB must respond to this request within 60 days but may respond after 30 days. For maximum consideration your comments and suggestions on the requirement should be made within 30 days directly to the Office of Management and Budget, Interior Department Desk Officer (1004-0165), at OMB-OIRA via facsimile to (202) 395-6566 or e-mail to OIRA_DOCKET@omb.eop.gov. Please provide a copy of your comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated electronic, mechanical, or other forms of information technology.

Title: Cave Management: Cave Nominations and Confidential Information (43 CFR Part 37).

OMB Control Number: 1004-0165.

Bureau Form Number: None.

Abstract: We integrate cave management into existing planning and management processes and provide protection of cave resource information in order to prevent vandalism and disturbance of significant caves. Federal agencies must consult with “cavers” and other interested parties to develop a listing of significant caves.

Frequency: Once, when nominating the cave or requesting confidential cave information.

Description of Respondents: Respondents are cavers and other interested parties.

Estimated Completion Time: 3 hours for each nomination and 30 minutes for each request for confidential cave information.

Annual Responses: 50 cave nominations and 10 requests for confidential cave information.

Application Fee per Response: $0.

Annual Burden Hours: 155.

Bureau Clearance Officer: Ted Hudson, (202) 452-5033.

Dated: February 9, 2006.
Ted R. Hudson,
Bureau of Land Management, Information Collection Clearance Officer.

[FR Doc. 06-5958 Filed 6-30-06; 8:45 am]

BILLING CODE 4310-84-M